DEPARTMENT OF HEALTH AND HUMAN SERVICES

Centers for Medicare & Medicaid Services

[Document Identifier: CMS-40B, CMS-10797, CMS-4040, CMS-R-262 and CMS-10796]

Agency Information Collection Activities: Submission for OMB Review; Comment Request

AGENCY: Centers for Medicare & Medicaid Services, Health and Human Services (HHS).

ACTION: Notice.

SUMMARY: The Centers for Medicare & Medicaid Services (CMS) is announcing an opportunity for the public to comment on CMS' intention to collect information from the public. Under the Paperwork Reduction Act of 1995 (PRA), Federal agencies are required to publish notice in the Federal Register concerning each proposed collection of information, including each proposed extension or reinstatement of an existing collection of information, and to allow a second opportunity for public comment on the notice. Interested persons are invited to send comments regarding the burden estimate or any other aspect of this collection of information, including the necessity and utility of the proposed information collection for the proper performance of the agency's functions, the accuracy of the estimated burden, ways to enhance the quality, utility, and clarity of the information to be collected, and the use of automated collection techniques or other forms of information technology to minimize the information collection burden.

DATES: Comments on the collection(s) of information must be received by the OMB desk officer by April 21, 2025.

ADDRESSES: Written comments and recommendations for the proposed information collection should be sent within 30 days of publication of this notice to www.reginfo.gov/public/do/PRAMain. Find this particular information collection by selecting “Currently under 30-day Review—Open for Public Comments” or by using the search function.

To obtain copies of a supporting statement and any related forms for the proposed collection(s) summarized in this notice, please access the CMS PRA website by copying and pasting the following web address into your web browser: https://www.cms.gov/Regulations-and-Guidance/Legislation/PaperworkReductionActof1995/PRA-Listing

FOR FURTHER INFORMATION CONTACT: William Parham at (410) 786-4669.

SUPPLEMENTARY INFORMATION: Under the Paperwork Reduction Act of 1995 (PRA) (44 U.S.C. 3501-3520), Federal agencies must obtain approval from the Office of Management and Budget (OMB) for each collection of information they conduct or sponsor. The term “collection of information” is defined in 44 U.S.C. 3502(3) and 5 CFR 1320.3(c) and includes agency requests or requirements that members of the public submit reports, keep records, or provide information to a third party. Section 3506(c)(2)(A) of the PRA (44 U.S.C. 3506(c)(2)(A)) requires Federal agencies to publish a 30-day notice in the Federal Register concerning each proposed collection of information, including each proposed extension or reinstatement of an existing collection of information, before submitting the collection to OMB for approval. To comply with this requirement, CMS is publishing this notice that summarizes the following proposed collection(s) of information for public comment:

1. Type of Information Collection Request: Reinstatement with change of a previously approved collection; Title of Information Collection: Application for Enrollment in Medicare Part B (Medical Insurance); Use: Medicare Part B is a voluntary program, financed from premium payments by enrollees, together with contributions from funds appropriated by the Federal Government. The Social Security Act (the Act) at section 226(a) provides that individuals who are age 65 or older and eligible for, or entitled to, Social Security or Railroad Retirement Board (RRB) benefits shall be entitled to premium-free Part A upon filing an application for such benefits. Section 1836 of the Act permits individuals with Medicare premium-free Part A to enroll in Part B.

The CMS-40B provides the necessary information to determine eligibility and to process the beneficiary's request for enrollment for Medicare Part B coverage. This form is only used for enrollment by beneficiaries who already have Part A, but not Part B. Form CMS-40B is completed by the person with Medicare or occasionally by an SSA representative using information provided by the Medicare enrollee during an in-person interview. The form is owned by CMS, but not completed by CMS staff. SSA processes Medicare enrollments on behalf of CMS. Form Number: CMS-40B (OMB control number: 0938-1230); Frequency: Once; Affected Public: Individuals and Households; Number of Respondents: 1,184,546; Total Annual Responses: 1,184,546; Total Annual Hours: 292,820. (For policy questions regarding this collection contact Carla Patterson at 410-786-8911 or Carla.Patterson@cms.hhs.gov.)

2. Type of Information Collection Request: Reinstatement with change of a previously approved collection; Title of Information Collection: Application for Medicare Part A and Part B Special Enrollment Period (Exceptional Circumstances); Use: Section 1837(m) of the Social Security Act (the Act) provides authority for the Secretary of the Department of Health and Human Services to establish SEPs for individuals who are eligible to enroll in Medicare and meet such exceptional conditions as the Secretary may provide.

CMS provides SEPs for individuals experiencing an exceptional circumstance to enroll in Medicare premium Part A and Part B. To utilize these SEPs, an individual would have to submit an enrollment request via the form CMS-10797. The form is used by individuals who have missed an enrollment period due to an exceptional circumstance to enroll in Part A and/or Part B. Individuals complete the form and submit it to SSA to complete the enrollment.

The application form provides the necessary information to determine eligibility and to process the beneficiary's request for enrollment in premium Part A or Part B due to an exceptional circumstance. The form is only used for enrollment by beneficiaries who could not enroll during another enrollment period due to an exceptional circumstance. Form Number: CMS-10797 (OMB control number: 0938-1426); Frequency: Once; Affected Public: Individuals and Households, Business or other for-profits, Not-for-profits institutions; Number of Respondents: 34,612; Total Annual Responses: 34,612; Total Annual Hours: 19,901. (For policy questions regarding this collection contact Carla Patterson at 410-786-8911 or Carla.Patterson@cms.hhs.gov.)

3. Type of Information Collection Request: Reinstatement with changes of a previously approved collection; Title of Information Collection: Request for Enrollment in Supplementary Medical Insurance (SMI); Use: Section 1836 of the Social Security Act, and CMS regulations at 42 CFR 407.10, provide the eligibility requirements for enrollment in Part B for individuals aged 65 and older who are not entitled to premium-free Part A. The individual must be a resident of the United States, and either a U.S. Citizen or an alien lawfully admitted for permanent residence that has lived in the U.S. continually for 5 years.

Part B is a voluntary program and is financed from premium payments by enrollees together with contributions from funds appropriated by the Federal Government. All individuals age 65 or older who are entitled to Part A can enroll in Part B. There are some individuals, age 65 and over who are not entitled to or eligible for premium-free Part A. These individuals may, however, enroll in Part B only.

The CMS-4040 solicits the information that is used to determine entitlement for individuals who meet the requirements in section 1836 as well as the entitlement of the applicant or their spouses to an annuity paid by OPM for premium deduction purposes. The application follows the application questions and requirements used by SSA. This is done not only for consistency purposes but to comply with other Title II and Title XVIII requirements because eligibility to Title II benefits and free Part A under Title XVIII must be ruled out in order to qualify for enrollment in Part B only. Form Number: CMS-4040 (OMB control number: 0938-0245); Frequency: Once; Affected Public: Individuals and Households, Business or other for-profits, Not-for-profits institutions; Number of Respondents: 48,642; Total Annual Responses: 48,642; Total Annual Hours: 12,161. (For policy questions regarding this collection contact Carla Patterson at 410-786-8911 or Carla.Patterson@cms.hhs.gov.)

4. Type of Information Collection Request: Revision of a currently approved collection; Title of Information Collection: CMS Plan Benefit Package (PBP) and Formulary CY 2026; Use: Under the Medicare Modernization Act (MMA), Medicare Advantage (MA) and Prescription Drug Plan (PDP) organizations are required to submit plan benefit packages for all Medicare beneficiaries residing in their service area. The plan benefit package submission consists of the Plan Benefit Package (PBP) software, formulary file, and supporting documentation, as necessary. MA and PDP organizations use the PBP software to describe their organization's plan benefit packages, including information on premiums, cost sharing, authorization rules, and supplemental benefits. They also generate a formulary to describe their list of drugs, including information on prior authorization, step therapy, tiering, and quantity limits.

CMS requires that MA and PDP organizations submit a completed PBP and formulary as part of the annual bidding process. During this process, organizations prepare their proposed plan benefit packages for the upcoming contract year and submit them to CMS for review and approval. CMS uses this data to review and approve the benefit packages that the plans will offer to Medicare beneficiaries. This allows CMS to review the benefit packages in a consistent way across all submitted bids during with incredibly tight timeframes. This data is also used to populate data on Medicare Plan Finder, which allows beneficiaries to access and compare Medicare Advantage and Prescription Drug plans. Form Number: CMS-R-262 (OMB control number: 0938-0763); Frequency: Annually; Affected Public: Public sector (Individuals and Households), Private sector (Business or other for-profits and Not-for-profit institutions); Number of Respondents: 785; Total Annual Responses: 8,337; Total Annual Hours: 46,026. (For policy questions regarding this collection contact Kristy Holtje at 410-786-2209 or kristy.holtje@cms.hhs.gov.)

5. Type of Information Collection Request: Revision of a currently approved collection; Title of Information Collection: Dual Eligible Special Needs Plan Contract with the State Medicaid Agency; Use: Special needs plans (SNPs) are Medicare Advantage (MA) plans created by the Medicare Prescription Drug, Improvement, and Modernization Act of 2003 (Pub. L. 108-173) that are specifically designed to provide targeted care and limit enrollment to special needs individuals. Under section 1859(b)(6) of the Act, D-SNPs restrict enrollment to individuals entitled to medical assistance under a State plan under title XIX of the Social Security Act (hereinafter referred to as the Act).

Section 1859(f)(3)(D) of the Act and 42 CFR 422.107 established the requirement for D-SNPs to have contracts with State Medicaid agencies in addition to other contracting requirements that that apply to all MA plans. MA organizations with D-SNPs and States use the information in the contract to provide benefits, or arrange for the provision of Medicaid benefits, to which an enrollee is entitled. CMS reviews the D-SNP contract with the State Medicaid agency to ensure that it meets the minimum contract requirements at § 422.107(c)&(d). CMS uses the attestations and matrices in the appendices of this package to identify the types of D-SNPs an MA organization(s) offers and the location of the contract requirements in the document. Form Number: CMS-10796 (OMB control number: 0938-1410); Frequency: Annually; Affected Public: Public sector (Individuals and Households), Private sector (Business or other for-profits and Not-for-profit institutions); Number of Respondents: 886; Total Annual Responses: 893; Total Annual Hours: 17,403. (For policy questions regarding this collection contact Marla Rothouse at 410-786-8063 or Marla.rothouse@cms.hhs.gov.)

William N. Parham, III,
Director, Division of Information Collections and Regulatory Impacts, Office of Strategic Operations and Regulatory Affairs.

[FR Doc. 2025-04887 Filed 3-20-25; 8:45 am]

BILLING CODE 4120-01-P